SMALL BUSINESS ADMINISTRATION

13 CFR Parts 120 and 121

RIN 3245-AH87

Affiliation and Lending Criteria for the SBA Business Loan Programs; Correction

AGENCY: U.S. Small Business Administration.

ACTION: Final rule; correction.

SUMMARY: The U.S. Small Business Administration (SBA or Agency) is correcting a final rule that appeared in the Federal Register on April 10, 2023. The document issued a final rule that amended various regulations governing SBA's 7(a) Loan Program and 504 Loan Program, including regulations on use of proceeds for partial changes of ownership, lending criteria, loan conditions, reconsiderations, and affiliation standards, to expand access to capital to small businesses and drive economic recovery.

DATES: Effective May 11, 2023.

FOR FURTHER INFORMATION CONTACT: Dianna Seaborn, Director, Office of Financial Assistance, Office of Capital Access, Small Business Administration, at (202) 205-3645 or Dianna.Seaborn@sba.gov. The phone number above may also be reached by individuals who are deaf or hard of hearing, or who have speech disabilities, through the Federal Communications Commission's TTY-Based Telecommunications Relay Service teletype service at 711.

SUPPLEMENTARY INFORMATION: In FR Doc. 2023-07173 appearing on page 21074 in the Federal Register on Monday, April 10, 2023, the following correction is made:

§ 120.193 [Corrected]

1. On page 21085, in the right column, instruction 5 is corrected to read “5. Amend § 120.193 by revising the last sentence and by adding two sentences at the end of the section to read as follows:”

Dated: April 17, 2023.
Dianna Seaborn,
Director, Office of Financial Assistance.

[FR Doc. 2023-08396 Filed 4-20-23; 8:45 am]

BILLING CODE 8026-09-P